NATIONAL AERONAUTICS AND SPACE ADMINISTRATION

[Notice 05-006]

NASA Advisory Council, Planetary Protection Advisory Committee; Meeting

AGENCY: National Aeronautics and Space Administration.

ACTION: Notice of meeting.

SUMMARY: In accordance with the Federal Advisory Committee Act, Public Law 92-463, as amended, the National Aeronautics and Space Administration announces a forthcoming meeting of the NASA Advisory Council (NAC), Planetary Protection Advisory Committee (PPAC).

DATES: Tuesday, February 8, 2005, 8:30 a.m. to 5:30 p.m., and Wednesday, February 9, 2005, 8:30 a.m. to 4:30 p.m.

ADDRESSES: National Aeronautics and Space Administration, 300 E Street, SW., Room 9H40, Washington, DC 20546.

FOR FURTHER INFORMATION CONTACT: Ms. Marian Norris, Science Mission Directorate, National Aeronautics and Space Administration, Washington, DC 20546, (202) 358-4452, e-mail mnorris@nasa.gov.

SUPPLEMENTARY INFORMATION: The meeting will be open to the public up to the capacity of the room. The agenda for the meeting includes the following topics:

—Planetary Protection Program Update

—Solar System Exploration Overview

—ESA Missions and Cassini/Huygens Mission Status

—Mars Forward Contamination

—Mars Sample Return Mission and Planning

—Planning for Future Human Missions

Attendees will be requested to sign a register and to comply with NASA security requirements, including the presentation of a valid picture ID, before receiving an access badge. Foreign nationals attending this meeting will be required to provide the following information no less than 3 working days prior to the meeting: full name; gender; date/place of birth; citizenship; visa/green card information (number, type, expiration date); passport information (number, country, expiration date); employer/affiliation information (name of institution, address, country, phone); title/position of attendee. To expedite admittance, attendees with U.S. citizenship can provide identifying information in advance by contacting Marian Norris via e-mail at mnorris@nasa.gov or by telephone at (202) 358-4452.

It is imperative that the meeting be held on these dates to accommodate the scheduling priorities of the key participants.

P. Diane Rausch,
Advisory Committee Management Officer, National Aeronautics and Space Administration.

[FR Doc. 05-1172 Filed 1-21-05; 8:45 am]

BILLING CODE 7510-13-P